DEPARTMENT OF LABOR

Comment Request for Information Collection for the INAP and SCSEP Grant Planning Guidance Training and Employment Guidance Letters (TEGLs), OMB Control No. 1205-0472, Extension Without Changes

AGENCY: Employment and Training Administration, Department of Labor.

ACTION: Notice.

SUMMARY: The Department of Labor, as part of its continuing effort to reduce paperwork and respondent burden conducts a preclearance consultation program to provide the general public and Federal agencies with an opportunity to comment on proposed and/or continuing collections of information in accordance with the Paperwork Reduction Act of 1995 (PRA95) [44 U.S.C. 3506(c)(2)(A)]. This program helps to ensure that requested data can be provided in the desired format, reporting burden (time and financial resources) is minimized, collection instruments are clearly understood, and the impact of collection requirements on respondents can be properly assessed. Currently, the Employment and Training Administration is soliciting comments concerning the collection of data about the Senior Community Service Employment Program (SCSEP) and Indian and Native American Program (INAP), expiring October 31, 2009. The comments concern the fact that in February of 2009, SCSEP and INAP received additional funds authorized by Title VIII of section A of the American Recovery and Reinvestment Act (ARRA). This notice utilizes standard clearance procedures in accordance with the Paperwork Reduction Act of 1995 and 5 CFR 1320.12. This information collection follows an emergency review that was conducted in accordance with the Paperwork Reduction Act of 1995 and 5 CFR 1320.13. The submission for OMB emergency review was published in the Federal Register on March 26, 2009, see 74 FR 13230. OMB approved the emergency clearance on April 13, 2009. A copy of this ICR can be obtained from the RegInfo.gov Web site at http://www.reginfo.gov/public/do/PRAMain.

DATES: Written comments must be submitted to the office listed in the addressee's section below on or before October 19, 2009.

ADDRESSES: Submit written comments to Alexandra Kielty, Room S-4209 Employment and Training Administration, 200 Constitution Avenue, NW., Washington, DC 20210. Telephone number: 202-693-3730 (this is not a toll-free number). Fax: 202-693-3587. E-mail: kielty.alexandra@dol.gov.

SUPPLEMENTARY INFORMATION:

I. Background

The Employment and Training Administration (ETA) of the Department of Labor (DOL or the Department) occasionally solicits applications for grants by issuing a “Solicitation for Grant Applications” or “SGA.” These are usually awarded for multi-year periods. In the non-competition years, grantees are required to submit a similar but simplified set of documents to ETA in order to ensure the continuation of their grants. Grantees are generally required to submit a two-part application. The first part of an ETA Planning Guidance TEGL consists of submitting the Standard Form 424 (SF-424), “Application for Federal Assistance”, the SF-424A Budget Narrative. The second part of the Planning Guidance usually requires a statement of work re-affirming the applicant's capabilities to meet performance criteria, along with certain certifications and assurances.

On an emergency basis OMB approved TEGLs to be issued by these programs in order to obligate the Recovery Act funds by March 19, 2009, as directed by the Congress and the President.

The Indian and Native American Program provides employment and training grants to Indian tribes, non-profit tribal organizations, Alaska Native entities and Native Hawaiian organizations for the purpose of providing employment and training services to low income and unemployed Native Americans. The program is authorized under section 166 of the Workforce Investment Act (WIA). The program's services include a Comprehensive Services (“adult”) Program (CSP), which serves Indians or Native Americans (as determined by the individual grantee) who are ages 14 and above and who are unemployed, underemployed, or low-income individuals. The INA program also administers the Supplemental Youth Services Program (SYSP), which serves Indian and Native American youth between the ages of 14 and 24 who reside on or near a reservation (or in Alaska, Hawaii, or Oklahoma), and who are low-income or have other barriers to employment.

Originally authorized by the Older Americans Act of 1965, the Senior Community Service Employment Program (SCSEP) is designed to foster individual economic self-sufficiency and promote useful opportunities in community service employment for unemployed low-income persons (particularly persons who have poor employment prospects) who are age 55 or older, and to increase the number of persons who may enjoy the benefits of unsubsidized employment in both the public and private sectors.

II. Review Focus

The Department of Labor is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submissions of responses.

III. Current Actions

Type of Review: Extension without changes.

Title: U.S. Department of Labor INAP AND SCSEP Grant Planning Guidance Training and Employment Guidance Letters (TEGLs).

OMB Number: 1205-0472.

Affected Public: 145 INA grantees and 74 SCSEP grantees.

Forms: Standard Form 424 (SF-424), “Application for Federal Assistance”; SF-424A Budget Narrative.

Total Respondents: 219.

Frequency: Annual.

Total Responses: 219.

Average Time per Response: 16 hours.

Estimated Total Burden Hours: 3,504 hours.

Total Burden Cost (operating/maintaining): $99,514.

Comments submitted in response to this comment request will be summarized and/or included in the request for Office of Management and Budget approval of the information collection request; they will also become a matter of public record.

Signed at Washington, DC, this 11th day of August 2009.
Jane Oates,
Assistant Secretary.

[FR Doc. E9-20003 Filed 8-19-09; 8:45 am]

BILLING CODE 4510-FN-P